DEPARTMENT OF HOMELAND SECURITY

Federal Emergency Management Agency

[Docket ID FEMA-2007-0008]

National Advisory Council

AGENCY: Federal Emergency Management Agency, DHS.

ACTION: Committee Management; Notice of Federal Advisory Committee Conference Call.

SUMMARY: The Federal Emergency Management Agency (FEMA) National Advisory Council (NAC) will meet via conference call on December 3, 2013 at 4:00 p.m. EST. The meeting will be open to the public.

DATES: The NAC will meet on Tuesday, December 3, 2013, from 4:00 p.m. EST to 5:00 p.m. EST. Please note that the call may conclude early if the council has completed its business. Any written comments must be received on or before December 2, 2013.

ADDRESSES: The meeting will be held via conference call; dialing information is as follows:

Toll Free: 888-430-8694.

Conference Passcode: 6199206.

It is recommended that participants dial in 5-10 minutes prior to the start time using the toll free phone number and Conference Passcode.

For information on services for individuals with disabilities or to request special assistance for this call, contact the person listed in FOR FURTHER INFORMATION CONTACT below as soon as possible.

To facilitate public participation, members of the public are invited to provide written comments on the issues to be considered by the NAC (see “Agenda”). Written comments must be submitted through one of the following methods and received by December 2, 2013, identified by Docket ID FEMA-2007-0008:

• Federal eRulemaking Portal: http://www.regulations.gov. Follow the instructions for submitting comments.

• Email: FEMA-NAC@fema.dhs.gov. Include the docket number in the subject line of the message.

• Fax: (540) 504-2331.

• Mail: Regulatory Affairs Division, Office of Chief Counsel, FEMA, 500 C Street SW., 8NE, Washington, DC 20472-3100.

Instructions: All submissions received must include the words “Federal Emergency Management Agency” and the docket number for this action. Comments received will be posted without alteration at http://www.regulations.gov, including any personal information provided. A public comment period will be held during the meeting from 4:45 p.m. to 5:00 p.m., and speakers are requested to limit their comments to 3 minutes. Contact the individual listed below to register as a speaker by December 2, 2013.

Docket: For access to the docket to read background documents or comments received, go to the Federal eRulemaking Portal at http://www.regulations.gov, click on “Advanced Search,” then enter “FEMA-2010-0008” in the “By Docket ID” box, then select “FEMA” under “By Agency,” and then click “Search.” Submitted comments may also be inspected at the Office of Chief Counsel, Federal Emergency Management Agency, 500 C Street SW., 8NE, Washington, DC 20472-3100.

FOR FURTHER INFORMATION CONTACT: Alexandra Woodruff, Alternate Designated Federal Officer, Office of the National Advisory Council, Federal Emergency Management Agency, 500 C Street SW., Washington, DC 20472-3100, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. App. (Pub. L. 92-463). The Federal Advisory Committee Act requires that notices for advisory committee meetings be published in the Federal Register 15 days prior to the meeting date. This notice is published less than 15 days prior to the meeting date due to rescheduling of the October 16, 2013 meeting as a result of the recent lapse in Federal appropriations. Because the NAC meeting is being conducted via teleconference, there will not be an undue burden on the public to arrange travel to attend this meeting. Notice of this meeting is also provided on the NAC's Web site at: http://www.fema.gov/national-advisory-council.

The NAC advises the FEMA Administrator on all aspects of emergency management. The NAC incorporates State, local, and tribal governments, nonprofit, and private sector input in the development and revision of FEMA plans and strategies.

Agenda: The NAC will receive reports from its subcommittees on the following topics: Review and update of the National Incident Management System (NIMS) and the Biggert-Waters Flood Insurance Reform Act of 2012. The NAC will review the information presented on each topic, deliberate on any recommendations presented in the subcommittees' reports, and formulate recommendations for FEMA's consideration.

Dated: November 18, 2013.
W. Craig Fugate,
Administrator, Federal Emergency Management Agency.

[FR Doc. 2013-28096 Filed 11-22-13; 8:45 am]

BILLING CODE 9111-48-P